OFFICE OF THE UNITED STATES TRADE REPRESENTATIVE

Generalized System of Preferences (GSP): Import Statistics Relating to Competitive Need Limitations (CNLs) and Extension of Deadline for Filing Petitions for 2015 CNLs Waivers

AGENCY: Office of the United States Trade Representative.

ACTION: Notice and related extension of deadline.

SUMMARY: This notice is to inform the public of the availability of import statistics for the first nine months of 2015 relating to competitive need limitations (CNLs) under the Generalized System of Preferences (GSP) program. These import statistics identify some articles for which the 2015 trade levels may exceed statutory CNLs. Interested parties may find this information useful in deciding whether to submit a petition to waive the CNLs for individual beneficiary developing countries (BDCs) with respect to specific GSP-eligible articles. This notice also extends the deadline for submission of petitions to waive CNLs for individual BDCs with respect to GSP-eligible articles to 5 p.m., Friday, December 4, 2015.

FOR FURTHER INFORMATION CONTACT: Aimee Larsen, Director for GSP, Office of the United States Trade Representative, 600 17th Street NW., Washington, DC 20508. The telephone number is (202) 395-2974 and the email address is ALarsen@ustr.eop.gov.

SUPPLEMENTARY INFORMATION:

I. Competitive Need Limitations

The GSP program provides for the duty-free importation of designated articles when imported from designated BDCs. The GSP program is authorized by Title V of the Trade Act of 1974 (19 U.S.C. 2461, et seq.), as amended (the “1974 Act”), and is implemented in accordance with Executive Order 11888 of November 24, 1975, as modified by subsequent Executive Orders and Presidential Proclamations.

Section 503(c)(2)(A) of the 1974 Act sets out the two different measures for CNLs. When the President determines that a BDC has exported to the United States during a calendar year either (1) a quantity of a GSP-eligible article having a value in excess of the applicable amount for that year ($170 million for 2015), or (2) a quantity of a GSP-eligible article having a value equal to or greater than 50 percent of the value of total U.S. imports of the article from all countries (the “50 percent CNL”), the President must terminate GSP duty-free treatment for that article from that BDC by no later than July 1 of the next calendar year, unless the President grants a waiver before the exclusion goes into effect. CNLs do not apply to least-developed countries or beneficiaries of the African Growth and Opportunity Act.

Any interested party may submit a petition seeking a waiver of the 2015 CNL for individual beneficiary developing countries with respect to specific GSP-eligible articles. In addition, under section 503(c)(2)(F) of the 1974 Act, the President may waive the 50 percent CNL with respect to an eligible article imported from a BDC, if the value of total imports of that article from all countries during the calendar year did not exceed the applicable de minimis amount for that year ($22.5 million for 2015).

II. Implementation of Competitive Need Limitations

Exclusions from GSP duty-free treatment where CNLs have been exceeded will be effective July 1, 2016, unless the President grants a waiver before the exclusion goes into effect. Exclusions for exceeding a CNL will be based on full 2015 calendar-year import statistics.

III. Interim 2015 Import Statistics

In order to provide advance notice of articles that may exceed the CNLs for 2015, the Office of the U.S. Trade Representative has compiled interim import statistics for the first nine months of 2015 relating to CNLs. This information can be viewed at: https://ustr.gov/issue-areas/preference-programs/generalized-system-preferences-gsp/current-reviews/gsp-2015-annual.

Full calendar-year 2015 data for individual tariff subheadings will be available in February 2016 on the Web site of the U.S. International Trade Commission at http://dataweb.usitc.gov/.

The interim 2015 import statistics are organized to show, for each article, the Harmonized Tariff Schedule of the United States (HTSUS) subheading and BDC of origin, the value of imports of the article from the specified country for the first nine months of 2015, and the corresponding share of total imports of that article from all countries. The list includes the GSP-eligible articles from BDCs that, based on interim, nine-month 2015 data, exceed $110 million dollars, or an amount greater than 42 percent of the total value of U.S. imports of that product. In all, the following 19 products met the criteria to be placed on the list:

• 0410.00.00—Other edible products of animal origin (Indonesia)

• 0804.10.60—Pitted dates (Tunisia)

• 1102.90.25- Rice flour (Thailand)

• 1509.10.40—Virgin olive oil (Tunisia)

• 2102.20.60—Single-cell micro-organisms, dead, excluding yeasts (Brazil)

• 2202.90.90—Other nonalcoholic beverages (Thailand)

• 2804.29.00—Rare gases, other than argon (Ukraine)

• 2934.99.47—Nonaromatic drugs of other heterocyclic compounds (India)

• 3917.31.00—Flexible plastic tubes, pipes, and hoses (Brazil)

• 4202.92.04—Insulated beverage bag w/o surface textiles (Philippines)

• 4409.10.05—Coniferous wood continuously shaped along any of its ends (Brazil)

• 6911.10.37—Porcelain or non-bone china, household table & kitchenware sets (Indonesia)

• 7307.21.50—Stainless steel, not cast, flanges for tubes/pipes (India)

• 7307.91.50—Iron or steel (o/than stainless), not cast, flanges for tubes/pipes (India)

• 7325.91.00—Iron or steel, cast grinding balls and similar articles for mills (India)

• 8525.80.30—Other television cameras (Thailand)

• 8544.19.00—Insulated (including enameled or anodized) winding wire (Venezuela)

• 8708.50.95—Parts & accessories of motor vehicles, half shafts (India)

• 9001.50.00—Spectacle lenses of materials other than glass (Thailand)

The list published on the USTR Web site includes the relevant nine-month trade statistics for each of these products and is provided as a courtesy for informational purposes only. The list is based on interim 2015 trade data, and may not include all articles that may be affected by the GSP CNLs. Regardless of whether or not an article is included on the list referenced in this notice, all determinations and decisions regarding application of the CNLs of the GSP program will be based on full calendar-year 2015 import data for each GSP-eligible article. Each interested party is advised to conduct its own review of 2015 import data with regard to the possible application of GSP CNLs. Please see the notice announcing the 2015 GSP Review which was published in the Federal Register on August 19, 2015, regarding submission of product petitions requesting a waiver of a CNL. The notice is available at http://www.regulations.gov/#!documentDetail;D=USTR-2015-0013-0001.

William D. Jackson,
Deputy Assistant U.S. Trade Representative for the GSP Program, Chairman, GSP Subcommittee of the Trade Policy Staff Committee.

[FR Doc. 2015-29233 Filed 11-16-15; 8:45 am]

BILLING CODE 3290-F6-P